DEPARTMENT OF HOMELAND SECURITY

Federal Emergency Management Agency

[Docket ID: FEMA-2022-0027; OMB No. 1660-NW153]

Agency Information Collection Activities: Proposed Collection; Comment Request; State, Tribe, and Territory Disaster Case Management Federal Award

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the Paperwork Reduction Act of 1995, this notice seeks comments concerning information collected during the request by a State, Tribal, or territorial government for a Disaster Case Management (DCM) Federal award following a major disaster declaration.

DATES: Comments must be submitted on or before November 18, 2022.

ADDRESSES: Submit comments at www.regulations.gov under Docket ID FEMA-2022-0027. Follow the instructions for submitting comments.

All submissions received must include the agency name and Docket ID, and will be posted, without change, to the Federal eRulemaking Portal at https://www.regulations.gov, and will include any personal information you provide. Therefore, submitting this information makes it public. You may wish to read the Privacy and Security Notice that is available via a link on the homepage of www.regulations.gov.

FOR FURTHER INFORMATION CONTACT: Rebekah Kennedy, Team Lead, Community Services Section, Individual Assistance Division, at (202) 701-8228 or rebekah.kennedy@fema.dhs.gov. You may contact the Information Management Division for copies of the proposed collection of information at email address: FEMA-Information-Collections-Management@fema.dhs.gov.

SUPPLEMENTARY INFORMATION: Pursuant to Executive Order 12148, as amended by Executive Order 12673 and Executive Order 13286, the President of the United States has delegated to the Department of Homeland Security (DHS), including FEMA, the authority to provide case management services as stated in the Robert T. Stafford Disaster Relief and Emergency Assistance Act (Stafford Act), 42 U.S.C. 5189d. Under the Stafford Act, FEMA may provide DCM services directly to survivors through financial assistance to State, Indian tribal, or territorial government agencies. DCM services include identifying and addressing disaster-caused unmet needs of survivors through identification of, and referrals to, available resources. A disaster-caused unmet need is an un-resourced item, support, or assistance that has been assessed and verified as necessary for a survivor to recover from a disaster. This may include food, clothing, shelter, first aid, emotional and spiritual care, household items, home repair, or rebuilding.

When a State, Tribe, or territory (STT) applies for, requests a modification of, or appeals a FEMA determination for DCM Federal funding, the STT will utilize the respective forms to illustrate the need, why it is beyond the STT capacity to provide case management services itself, and how the STT will provide services to all populations in need. Additionally, the STT will be required to use the OMB-approved Standard Form 424 form family when applying for Federal funding.

To supplement their request, the STT will also submit a funding request using the budget form. The information gathered within these forms in the collection tool is used to determine the STT's need for DCM Federal funding and how they anticipate providing services to survivors.

Once awarded, the STT will use the monthly reporting collection tool to provide aggregate data on the services provided to survivors. The information gathered within this form helps FEMA assess the success of the program and ensure that all survivors in need of services are able to receive them and that the case managers are assisting survivors in finding resources that meet their disaster-caused unmet needs.

Collection of Information

Title: State, Tribe, and Territory Disaster Case Management Federal Award.

Type of Information Collection: New information collection.

OMB Number: 1660-NW153.

FEMA Forms: DCM Federal Award Application, FF-104-FY-22-204; DCM Federal Award Modification Request, FF-104-FY-22-206; DCM Federal Award Request for Appeal, FF-104-FY-22-207; DCM Federal Award Monthly Reporting, FF-104-FY-22-208; and DCM Federal Award Budget Workbook, FF-104-FY-22-209.

Abstract: This collection tool will primarily be used as a guide to support state, tribal, and territorial governments (STTs) when applying, requesting a modification, or appealing a FEMA determination for Disaster Case Management Federal funding to supplement and expand their existing capacity. In extraordinary circumstances, the STT may request that FEMA provide an opportunity for a local government agency or qualified private organization to apply for the DCM Federal Award directly. Once awarded, the STT will utilize the monthly reporting form to report aggregate data about the performance of their program. All information collected within these forms will be submitted to FEMA by the STT.

When applying for the STT DCM Federal award, the STT will respond to the questions within the application form, developing an overall assessment that details activities that have occurred since the start of the disaster; what resources and capabilities are currently available or anticipated to be available; and what the estimated population to serve is. The STT will also outline the implementation of their program by detailing their service delivery and work plans.

If the STT is awarded an STT DCM Federal award, the STT may need to modify their initial award. In doing so, the STT will utilize the Request for Modification collection instrument to answer questions that will assist them in justifying the need to request additional time or funding to further support the implementation of their program.

If the STT chooses to appeal a determination made by FEMA, the STT will outline the purpose for their submission and provide new, justifying information that was not included in their initial or modification request by using the Request to Appeal collection instrument.

For each of the three forms mentioned above, the STT may also need to request initial or supplemental funding by using the Budget Workbook. This collection instrument enables the STT to outline line items that are necessary to implement the program, including personnel, travel, supplies, and contractual items among others. The STT can use this workbook to detail the request at all levels in program implementation so that it can calculate the total amount of funding needed.

Once awarded, the STT will report aggregate data on all aspects of program implementation, including staffing, caseloads, survivor/client needs, and the types of referrals being made, as well as challenges faced during the month and best practices/lessons learned. This information assists FEMA in confirming the effectiveness of the program, providing technical assistance to ensure all survivors are able to receive DCM services, and to continuously evolve programmatic implementation through the collection of best practices/lessons learned. For the purpose of this publication, “State” in the Affected Public below includes the fifty States, all Territories, and the District of Columbia.

Affected Public: State, Local and Tribal Governments.

Estimated Number of Respondents: 55.

Estimated Number of Responses: 209.

Estimated Total Annual Burden Hours: 577.

Estimated Total Annual Respondent Cost: $43,962.

Estimated Respondents' Operation and Maintenance Costs: $0.

Estimated Respondents' Capital and Start-Up Costs: $0.

Estimated Total Annual Cost to the Federal Government: $127,827.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-20165 Filed 9-16-22; 8:45 am]

BILLING CODE 9111-24-P